DEPARTMENT OF COMMERCE

International Trade Administration

[A-588-869]

Diffusion-Annealed, Nickel-Plated Flat-Rolled Steel Products From Japan: Final Results of Expedited Second Sunset Review of Antidumping Duty Order

AGENCY: Enforcement and Compliance, International Trade Administration, Department of Commerce.

SUMMARY: As a result of this expedited sunset review, the U.S. Department of Commerce (Commerce) finds that revocation of the antidumping duty (AD) order on diffusion-annealed, nickel-plated flat-rolled steel products (nickel-plated steel products) from Japan would be likely to lead to the continuation or recurrence of dumping at the dumping margins identified in the “Final Results of Review” section of this notice.

DATES: Applicable January 7, 2025.

FOR FURTHER INFORMATION CONTACT: Robert Copyak, AD/CVD Operations, Enforcement and Compliance, International Trade Administration, U.S. Department of Commerce, 1401 Constitution Avenue NW, Washington, DC 20230; telephone: (202) 482-3642.

SUPPLEMENTARY INFORMATION:

Background

On September 3, 2024, Commerce published the notice of initiation of the second sunset reviews of the Order,¹ pursuant to section 751(c) of the Tariff Act of 1930, as amended (the Act).² On September 18, 2024, Commerce received a notice of intent to participate from Thomas Steel Strip Corporation (Thomas Steel), a domestic interested party, within the 15-day period specified in 19 CFR 351.218(d)(1)(i).³ Thomas Steel claimed interested party status under section 771(9)(C) of the Act, as a producer of the domestic like product in the United States.

¹ See Diffusion-Annealed, Nickel-Plated Flat-Rolled Steel Products from Japan: Antidumping Duty Order, 79 FR 30816 (May 29, 2014) (Order).

² See Initiation of Five-Year (Sunset) Reviews, 89 FR 71252 (September 3, 2024).

³ See Thomas Steel's Letter, “Notice of Intent to Participate,” dated September 18, 2024.

On October 3, 2024, Thomas Steel filed an adequate substantive response within the deadline specified in 19 CFR 351.218(d)(3)(i).⁴ Commerce did not receive a substantive response from any respondent interested party. On October 31, 2024, Commerce notified the U.S. International Trade Commission (ITC) that it did not receive an adequate substantive response from respondent interested parties.⁵ As a result, pursuant to section 751(c)(3)(A) of the Act and 19 CFR 351.218(e)(1)(ii)(C)(2), Commerce conducted an expedited (120-day) sunset review of the Order.

⁴ See Thomas Steel's Letter, “Substantive Response to Notice of Initiation of Five-Year (Sunset) Reviews of the Antidumping Duty Order,” dated October 3, 2024.

⁵ See Commerce's Letter, “Sunset Reviews Initiated on September 3, 2024,” dated October 31, 2024.

Scope of the Order

The merchandise covered by the Order is nickel-plated steel products from Japan. For a complete description of the scope of the Order, see the Issues and Decision Memorandum.⁶

⁶ See Memorandum, “Issues and Decision Memorandum for the Final Results of the Expedited Second Sunset Review of the Antidumping Duty Order on Diffusion-Annealed, Nickel-Plated Flat-Rolled Steel Products from Japan” dated concurrently with, and hereby adopted by, this notice (Issues and Decision Memorandum).

Analysis of Comments Received

A complete discussion of all issues raised in this sunset review, including the likelihood of the continuation or recurrence of dumping and the magnitude of the margins likely to prevail if the Order was to be revoked, is provided in the Issues and Decision Memorandum. A list of the topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed at http://access.trade.gov/public/FRNoticesListLayout.aspx.

Final Results of Sunset Review

Pursuant to sections 751(c)(1), and 752(c)(1) and (3) of the Act, Commerce determines that revocation of the Order would be likely to lead to the continuation or recurrence of dumping. We determine that the weighted-average dumping margin likely to prevail would be up to 77.70 percent.⁷

⁷ Id. at 3.

Administrative Protective Order (APO)

This notice serves as the only reminder to parties subject to APO of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing these final results in accordance with sections 751(c), 752(c), and 777(i)(1) of the Act, and 19 CFR 351.221(c)(5)(ii).

Dated: December 30, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2025-00019 Filed 1-6-25; 8:45 am]

BILLING CODE 3510-DS-P